DEPARTMENT OF THE INTERIOR

Bureau Of Land Management

[LLORB00000.L17110000.CB0000. L.X.SS.020H0000.14XL1109AF; HAG14-0004]

Call for Nominations for the Steens Mountain Advisory Council, Oregon

AGENCY: Bureau of Land Management, Interior.

ACTION: Notice.

SUMMARY: The Bureau of Land Management (BLM) requests public nominations for seven people to serve on the Steens Mountain Advisory Council (SMAC). Citizens who serve on this group provide advice and recommendations to the BLM on land use planning and management of the Steens Mountain Cooperative Management and Protection Area. The BLM will accept public nominations for 30 days after the publication of this notice.

DATES: All nominations must be received no later than February 24, 2014.

ADDRESSES: Send completed Advisory Council nominations to BLM Burns District Office; 28910 Highway 20 West; Hines, OR 97738-9424. Nomination forms are available at the BLM Burns District Office, or online at http://www.blm.gov/or/rac/steensac.php.

FOR FURTHER INFORMATION CONTACT: Tara Martinak, Public Affairs Specialist, BLM Burns District Office, 28910 Highway 20 West, Hines, OR 97738-9424, 541-573-4519, or email tmartina@blm.gov. Persons who use a telecommunications device for the deaf (TDD) may call the Federal Information Relay Service (FIRS) at 1(800) 877-8339 to contact the above individual during normal business hours. The FIRS is available 24 hours a day, 7 days a week, to leave a message or question with the above individual. You will receive a reply during normal business hours.

SUPPLEMENTARY INFORMATION: Any individual may nominate himself/herself or others to serve on the Council. Positions currently open or with terms expiring in 2014 include a representative of the State government to serve as a liaison to the advisory council, a representative of a State environmental organization, a representative of a local environmental organization, a person interested in mechanized and consumptive recreation in the Steens Mountain Cooperative Management and Protection Area (CMPA), a person with a grazing permit within the the CMPA, a private landowner within the CMPA, and a person with no financial intersest in the CMPA. All nomination applications should include letters of reference and/or recommendations from the represented interests or organizations and any other information explaining the nominee's qualifications (e.g., resume, curriculum vitae). The BLM Burns District will collect the nomination forms and letters of reference and distribute them to the officials responsible for submitting nominations (County Court of Harney County, the Governor of Oregon, and the BLM). The BLM will then forward recommended nominations to the Secretary of the Interior, who appoints Council members.

The BLM initiated the SMAC on August 14, 2001, pursuant to the Steens Mountain Cooperative Management and Protection Act of 2000 (Pub. L. 106-399). The SMAC provides representative counsel and advice to the BLM regarding new and unique approaches to management of the land within the bounds of the Steens Mountain CMPA; recommending cooperative programs and incentives for landscape management that meet human needs, and the maintenance and improvement of the ecological and economic integrity of the area. The BLM is publishing this notice under Section 9(a)(2) of the Federal Advisory Committee Act (FACA), to seek public nominations for membership on the SMAC. Applicants must be qualified through education, training, knowledge, or experience to give informed advice regarding an industry, discipline, or interest to be represented. Nominees must also demonstrate a commitment to collaborative resource decision-making. The Obama Administration prohibits individuals who are currently federally registered lobbyists from serving on all FACA and non-FACA boards, committees or councils.

Before including your address, phone number, email address, or other personal identifying information in your comments, please be aware that your nomination-including your personal identifying information-may be made publicly available at any time. While you can ask us to withhold your personal identifying information from public review, we cannot guarantee that we will be able to do so.

Brendan Cain,
Burns District Manager.

[FR Doc. 2014-01273 Filed 1-22-14; 8:45 am]

BILLING CODE 4310-33-P